DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 12, 2024 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

National Institute of Food and Agriculture

Title: National 4-H Conference Registration Form, Leadership Position Interest Form, and Scholarship Interest Form.

OMB Control Number: 0524-New.

Summary of Collection: The National 4-H Conference is known as the “Secretary's Conference” and has been the flagship youth development opportunity of USDA since 1927. The objectives of the National 4-H Conference are to: develop the next generation of leaders; increase youth familiarity with the government and future career opportunities; and provide an opportunity for young people involved in 4-H in rural, urban, and Tribal communities to share their voice on a national level with the federal government through a Youth Perspective Briefing.

The National 4-H Conference is administered by the U.S. Department of Agriculture (USDA) National Institute of Food and Agriculture (NIFA). The statutory authority for the Conference is under Section 7511(f)(2) of the Food, Conservation, and Energy Act of 2008 (Pub. L. 110-246), as amended.

Need and Use of the Information: All land-grant colleges and universities are invited to select and send high school aged 4-H members along with adult chaperones to the National 4-H Conference. Each is encouraged to partner within their state to select a diverse state delegation based on age, background, geographic distribution, and/or experience with the 4-H program. The selected youth must be 15 to 19 years old during the dates in which the National 4-H Conference is held to participate. NIFA will collect information using the Registration Form, Leadership Interest Form, and the Scholarship Interest Form. The information collected is used by NIFA and the logistics company to ensure youth and adults who would like to attend, serve in leadership, or apply for a scholarship role at the National 4-H Conference can be contacted, submit activity and dietary preferences, meet eligibility requirements, and provide the permissions required by law such as parental/guardian consent.

If NIFA were unable to collect this data, then the USDA NIFA National 4-H Conference would be unable to support the successful planning and delivery of activities associated with the National 4-H Conference.

Description of Respondents: Individuals or households.

Number of Respondents: 400.

Frequency of Responses: Reporting: Annually.

Total Burden Hours: 700.

Ruth Brown,
Departmental Information Collection Clearance Officer.

[FR Doc. 2023-27291 Filed 12-12-23; 8:45 am]

BILLING CODE 3410-09-P